NATIONAL AERONAUTICS AND SPACE ADMINISTRATION

14 CFR Part 1260

RIN 2700-AC93

NASA Grant and Cooperative Agreement Handbook—Synopses Requirements

AGENCY: National Aeronautics and Space Administration (NASA).

ACTION: Final rule.

SUMMARY: This final rule amends the NASA Grant and Cooperative Agreement Handbook (Handbook) by requiring that all NASA announcements of grant and cooperative agreement funding opportunities be electronically posted to: http://www.Fedgrants.gov, using a standard set of data elements, no later than three business days after release of the full announcement. This change implements Office of Management and Budget (OMB) policy directive: “Use of Grants.Gov FIND.”

EFFECTIVE DATE: February 3, 2004.

FOR FURTHER INFORMATION CONTACT: Suzan P. Moody, NASA Headquarters, Code HK, Washington, DC, (202) 358-0503, e-mail: Suzan.P.Moody@nasa.gov.

SUPPLEMENTARY INFORMATION:

A. Background

On October 8, 2003, the Office of Management and Budget (OMB) issued policy directive: “Use of Grants.Gov FIND”, requiring Federal agencies to use the Grants.gov FIND module of the Grants.gov program to electronically post synopses of grant and cooperative agreement funding opportunities. This policy directive includes a government-wide standard set of data elements to be used by Federal agencies when posting synopses to http://www.Grants.gov. The purpose of the Grants.gov FIND module is to provide potential applicants with (1) enough information about any opportunity to decide whether they are interested in viewing the full announcement; (2) information on one or more ways to obtain the full announcements; and (3) one common Web site for all Federal grant opportunities searchable by key word, date, Catalog of Federal Domestic Assistance (CFDA) number or specific agency name. This final rule implements the synopses requirements of the OMB policy directive.

This is not a significant regulatory action and, therefore, was not subject to review under section 6(b) of Executive Order 12866, Regulatory Planning and Review, dated September 30, 1993. This rule is not a major rule under 5 U.S.C. 804.

B. Regulatory Flexibility Act

NASA certifies that this final rule will not have a significant economic impact on a substantial number of small entities within the meaning of the Regulatory Flexibility Act, 5 U.S.C. 601 et seq., because the changes do not impose requirements on these entities. The changes only apply to field personnel within NASA.

C. Paperwork Reduction Act

The Paperwork Reduction Act does not apply because this final rule does not impose any new recordkeeping or information collection requirements, or collection of information from offerors, contractors, or members of the public that require the approval of the Office of Management and Budget under 44 U.S.C. 3501, et. seq.

List of Subjects in 14 CFR Part 1260

Grant Programs—Science and Technology.

Tom Luedtke,
Assistant Administrator for Procurement.

Accordingly, 14 CFR part 1260 is amended as follows:

PART 1260—GRANTS AND COOPERATIVE AGREEMENTS

1. The authority citation for 14 CFR part 1260 continues to read as follows:

Authority: 42 U.S.C. 2473(c)(1), and Pub. L. 97-258, 96 Stat. 1003 (31 U.S.C. 6301, et seq.).

2. Add section 1260.9 to read as follows:

§ 1260.9 Synopses requirements.

(a) All announcements of grant and cooperative agreement funding opportunities shall be synopsized. Synopses shall be prepared in the NASA Acquisition Internet Service (NAIS), located at: http://prod.nais.nasa.gov/cgi-bin/nais/index.cgi; by using the Electronic Posting System (EPS), and transmitted to http://www.Fedgrants.gov. Synopses shall be electronically posted to: http://www.Fedgrants.gov no later than three business days after release of the full announcement. All synopses shall include instructions regarding where to obtain the full announcement for the opportunity.

(b) This requirement applies to all announcements of grant and cooperative agreement funding opportunities with the following exceptions:

(1) Announcements of opportunities for awards less than $25,000 for which 100 percent of eligible applicants live outside of the United States.

(2) Single source announcements of opportunities that are specifically directed to a known recipient.

[FR Doc. 04-2071 Filed 2-2-04; 8:45 am]

BILLING CODE 7510-01-U